DEPARTMENT OF HOMELAND SECURITY

8 CFR Part 274a

[Docket No. DHS-2016-0034]

RIN 1601-AA80

Civil Monetary Penalty Adjustments for Inflation; Correction

AGENCY: Department of Homeland Security.

ACTION: Interim final rule; correction.

SUMMARY: The Department of Homeland Security (DHS) is correcting an interim final rule that published in the Federal Register on July 1, 2016 (81 FR 42987). The rule amended DHS regulations to adjust DHS and component civil monetary penalties for inflation. DHS calculated the adjusted penalties according to the statutory formula in the Federal Civil Penalties Inflation Adjustment Act Improvements Act of 2015, which was signed into law on November 2, 2015. DHS is correcting an error in the amendatory instruction related to one regulatory section.

DATES: This correction is effective on August 23, 2016.

FOR FURTHER INFORMATION CONTACT: Megan Westmoreland, Attorney-Advisor, Office of the General Counsel, U.S. Department of Homeland Security. Phone: 202-447-4384.

SUPPLEMENTARY INFORMATION: In FR Doc. 2016-15673, appearing on page 42987 in the Federal Register of Friday, July 1, 2016, DHS makes the following correction:

§ 274a.10 [Corrected]

1. On page 43002, in the first column, in part 274a Control of Employment of Aliens, in amendment 7, DHS corrects the instruction “In § 274a.10, revise paragraphs (b)(1)(ii)(A),(B),(C), and (b)(1)(iii)(2) to read as follows:” to read “In § 274a.10, revise paragraphs (b)(1)(ii)(A),(B),(C), and (b)(2) to read as follows:”

Dated: August 11, 2016.
Christina E. McDonald,
Associate General Counsel for Regulatory Affairs.

[FR Doc. 2016-19672 Filed 8-22-16; 8:45 am]

BILLING CODE 9111-28-P